DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee (Review Committee). The Review Committee will meet on May 15-16, 2008, at the F.K. Bemis International Conference Center on the Campus of St. Norbert College, 100 Grant Street, De Pere, WI 54115-2099. Meeting sessions will begin at 8:30 a.m. and end at 5 p.m. each day.

The agenda for the meeting includes preparation of the Review Committee's Report to Congress for 2007; update on National NAGPRA Program activities during the first half of fiscal year 2008; reports from the National NAGPRA Program on projects requested by the Review Committee; update and Review Committee recommendations on development of the draft proposed rule for disposition of unclaimed cultural items excavated or removed from Federal or tribal lands after November 16, 1990 (43 CFR 10.7); update on development of the final rule for disposition of culturally unidentifiable Native American human remains in collections (43 CFR 10.11); requests for recommendations regarding the disposition of culturally unidentifiable human remains; presentations and statements by Indian tribes, Native Hawaiian organizations, museums, Federal agencies, and the public; and selection of dates and site for spring 2009 meeting.

A detailed agenda for this meeting will be posted by April 30, 2008, at http://www.nps.gov/history/nagpra/.

Requests to schedule a presentation to the Review Committee during the meeting should be submitted in writing no later than April 15, 2008. Requests should include an abstract of the presentation and contact information for the presenters. Persons also may submit written statements for consideration by the Review Committee during the meeting. Send requests and statements to the Designated Federal Officer, NAGPRA Review Committee by U.S. Mail to the National Park Service, 1849 C Street NW (2253), Washington, DC 20240; or by commercial delivery to the National Park Service, 1201 Eye Street NW, 8th floor, Washington, DC 20005. Because increased security in the Washington, DC, area may delay delivery of U.S. Mail to Government offices, copies of mailed requests and statements should also be faxed to (202) 371-5197. Written submissions may be received by the Designated Federal Officer until the close of business on April 15, 2008.

Transcripts of Review Committee meetings are available approximately eight weeks after each meeting at the National NAGPRA Program office, 1201 Eye Street NW, 8th floor, Washington, DC. To request electronic copies of meeting transcripts, send an e-mail message to Tim_McKeown@nps.gov.

Information about NAGPRA, the Review Committee, and Review Committee meetings is available at the National NAGPRA website, http://www.nps.gov/history/nagpra/; for the Review Committee's meeting procedures, select “Review Committee,” then select “Procedures.”

The Review Committee was established by the Native American Graves Protection and Repatriation Act of 1990 (NAGPRA), 25 U.S.C. 3001 et seq. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum and recommending specific actions for developing a process for disposition of such human remains; consulting with Indian tribes and Native Hawaiian organizations and museums on matters within the scope of the work of the committee affecting such tribes or organizations; consulting with the Secretary of the Interior in the development of regulations to carry out NAGPRA; and making recommendations regarding future care of repatriated cultural items. The Review Committee's work is completed during meetings that are open to the public.

Dated: December 13, 2007
C. Timothy McKeown,
Designated Federal Officer,
Native American Graves Protection and Repatriation Review Committee.

[FR Doc. E8-2571 Filed 2-12-08; 8:45 am]

BILLING CODE 4312-50-S